NATIONAL SCIENCE FOUNDATION

Membership of National Science Foundation's Senior Executive Service Performance Review Board

AGENCY: National Science Foundation.

ACTION: Notice.

SUMMARY: The National Science Foundation is announcing the members of the Senior Executive Service Performance Review Board.

ADDRESSES: Comments should be addressed to Branch Chief, Executive Services, Division of Human Resource Management, National Science Foundation, Room W15219, 2415 Eisenhower Avenue, Alexandria, VA 22314.

FOR FURTHER INFORMATION CONTACT: Ms. Jennifer Munz at the above address or (703) 292-2478.

SUPPLEMENTARY INFORMATION: The membership of the National Science Foundation's Senior Executive Service Performance Review Board is as follows:

Karen Marrongelle, Chief Operating Officer, Chairperson

Wonzie Gardner, Jr., Chief Human Capital Officer and Office Head, Office of Information and Resource Management

Simon Malcomber, Deputy Assistant Director, Directorate for Biological Sciences

Sean Jones, Assistant Director, Directorate for Mathematical and Physical Sciences

Erwin Gianchandani, Assistant Director, Directorate for Technology, Innovation and Partnerships

Evan Heit, Division Director, Division of Research on Learning in Formal and Informal Settings, Directorate for Education and Human Resources

Maren Williams, Division Director, Division of Administrative Services, Office of Information and Resource Management

William Malyszka, Division Director, Division of Human Resource Management and PRB Executive Secretary

This announcement of the membership of the National Science Foundation's Senior Executive Service Performance Review Board is made in compliance with 5 U.S.C. 4314(c)(4).

Dated: July 12, 2023.
Suzanne H. Plimpton,
Reports Clearance Officer, National Science Foundation.

[FR Doc. 2023-15117 Filed 7-17-23; 8:45 am]

BILLING CODE 7555-01-P